DEPARTMENT OF THE TREASURY

Customs Service

[T.D. 01-07]

Customs Broker License Cancellations

AGENCY: U.S. Customs Service, Department of the Treasury I, as Assistant Commissioner, Office of Field Operations, pursuant to Section 641 of the Tariff Act of 1930, as amended (19 U.S.C. 1641), and the Customs Regulations (19 CFR 111), hereby cancel the following Customs broker's licenses without prejudice based on the authority as annotated:

Name | Port | License No. | Authority
SDV Logistics (Texas), Inc. | Houston | 12876 | 19 CFR 111.51(a)
Brinkley and Associates, Inc. | Los Angeles | 11152 | 19 CFR 111.51(a)
Lynx International, Inc. | Minneapolis | 14829 | 19 CFR 111.51(a)
KCC Transport Systems, Inc. | Chicago | 16441 | 19 CFR 111.51(a)

Dated: January 26, 2001.
Bonni G. Tischler,
Assistant Commissioner, Office of Field Operations.

[FR Doc. 01-2705 Filed 1-31-01; 8:45 am]

BILLING CODE 6820-02-P